DEPARTMENT OF HEALTH AND HUMAN SERVICES

42 CFR Part 84

[Docket No. CDC-2020-0036; NIOSH-335]

RIN 0920-AA69

Approval Tests and Standards for Air-Purifying Particulate Respirators

AGENCY: Centers for Disease Control and Prevention, HHS.

ACTION: Reopening of comment period.

SUMMARY: On April 14, 2020, the Department of Health and Human Services (HHS) published an interim final rule to update regulatory requirements by the Centers for Disease Control and Prevention's (CDC) National Institute for Occupational Safety and Health (NIOSH) to test and approve air-purifying particulate respirators for use in the ongoing public health emergency. Comments were to be received by August 12, 2020. This document announces a reopening of the comment period for an additional 30 days, to allow stakeholders and other interested parties additional time to respond.

DATES: The comment period for the interim final rule published April 14, 2020, at 85 FR 20598, is reopened. Written comments must be received by September 25, 2020.

ADDRESSES: You may submit written comments, identified by docket numbers CDC-2020-0036 and NIOSH-335, by either of the following two methods:

• Federal eRulemaking Portal: http://www.regulations.gov. Follow the instructions for submitting comments.

• Mail: National Institute for Occupational Safety and Health, NIOSH Docket Office, 1090 Tusculum Avenue, MS C-34, Cincinnati, Ohio 45226-1998.

Instructions: All information received in response to this document must include the agency name and docket number [CDC-2020-0036; NIOSH-335]. All relevant comments received will be posted without change to http://www.regulations.gov, including any personal information provided.

FOR FURTHER INFORMATION CONTACT: Jeffrey Palcic, NIOSH National Personal Protective Technology Laboratory (NPPTL), Pittsburgh, PA, (412) 386-5247 (this is not a toll-free number). Information requests can also be submitted by email to NIOSHregs@cdc.gov.

SUPPLEMENTARY INFORMATION: On April 14, 2020, at 85 FR 20598, HHS published an interim final rule adding parallel performance standards to existing regulatory requirements in 42 CFR part 84 for powered air-purifying particulate respirators (PAPRs). These new standards allow for the approval of respirators in a new class, PAPR100, that may be better suited to the needs of workers in the healthcare and public safety sectors. The rule also consolidated the technical standards for all types of air-purifying particulate respirators into a revised subpart K; standards pertaining to obsolete respirators designed for dust, fume, and mist; pesticide; and paint spray were removed from the regulation entirely. The comment period for this rule closed on August 12, 2020.

Prior to the close of the comment period, HHS received a request to extend the comment period. Because NIOSH values input from industry partners, HHS is reopening the public comment period for an additional 30 days. Accordingly, this document announces the reopening of the docket for this activity.

Dated: August 21, 2020.
Alex M. Azar II,
Secretary, Department of Health and Human Services.

[FR Doc. 2020-18747 Filed 8-24-20; 4:15 pm]

BILLING CODE 4163-18-P